DEPARTMENT OF THE INTERIOR

Bureau of Land Management

[LLWY920000.51010000.ER0000.LVRWK09K1000; WYW174597; COC72909; UTU87237]

Notice of Availability of the Final Environmental Impact Statement for the Energy Gateway South Transmission Project and Proposed Land-Use Plan Amendments

AGENCY: Bureau of Land Management, Interior.

ACTION: Notice of availability.

SUMMARY: In accordance with the National Environmental Policy Act of 1969, as amended (NEPA), and the Federal Land Policy and Management Act of 1976, as amended (FLPMA), the Bureau of Land Management (BLM) and the United States Forest Service (Forest Service) announce the availability of the Final Environmental Impact Statement (EIS) for the Energy Gateway South Transmission Project (Project) and proposed land-use plan amendments (LUPAs). The Final EIS analyzes the potential environmental consequences of granting a right-of-way (ROW) to PacifiCorp (doing business as Rocky Mountain Power) to construct and operate an extra-high voltage (EHV) alternating-current (AC) transmission system.

DATES: BLM planning regulations (43 CFR 1610.5-2) state that any person who meets the conditions as described in the regulations may protest the BLM's Final EIS/Proposed LUPAs. A person who meets the conditions and files a protest must file the protest within 30 days of the date that the Environmental Protection Agency publishes its Notice of Availability in the Federal Register.

ADDRESSES: Copies of the Final EIS and proposed LUPAs have been sent to Federal, State, and local governments; public libraries in the area potentially affected by the proposed Project; and to interested parties that previously requested a copy. The Final EIS/Proposed LUPAs and supporting documents will be available electronically on the following BLM Web site: http://www.blm.gov/wy/st/en/info/NEPA/documents/hdd/gateway_south.html. Copies of the Final EIS and Proposed LUPAs are available for public inspection at the locations identified in the SUPPLEMENTARY INFORMATION section of this notice. Protests on the BLM land-use planning process must be submitted in writing and mailed by July 12, 2016. To submit a protest via regular mail, send to BLM Director (210), Attention: Protest Coordinator, P.O. Box 71383, Washington, DC 20004-1383. Protests submitted via overnight mail should be sent to BLM Director (210), Attention: Protest Coordinator, 20 M Street SE., Room 2134LM, Washington, DC 20003. The BLM will issue its ROD after any protests are resolved but no earlier than 30 days after the Final EIS is available.

FOR FURTHER INFORMATION CONTACT: Tamara Gertsch, Project Manager, Bureau of Land Management, Wyoming State Office, P.O. Box 21150, Cheyenne, WY 82003; by telephone at (307) 775-6115; or email to GatewaySouth_WYMail@blm.gov. Persons who use a telecommunications device for the deaf may call the Federal Information Relay Service (FIRS) at (800) 877-8339 to contact the above individual during normal business hours. The FIRS is available 24 hours a day, 7 days a week, to leave a message or question with the above individual. You will receive a reply during normal business hours.

For information about the Forest Service's involvement, contact Kenton Call, Forest Service Project Lead by telephone at (435) 691-0768; or email to ckcall@fs.fed.us. The Forest Service will provide information about its draft decisions, and details about the pre-decisional objection process associated with the Forest Service's Draft ROD in its Gateway South Project Final EIS NOA to be published in the Federal Register at a later date.

SUPPLEMENTARY INFORMATION: PacifiCorp (doing business as Rocky Mountain Power) filed a ROW application with the BLM to construct and operate a 500kilovolt (kV), overhead, single-circuit, alternating-current, transmission line beginning near Medicine Bow, Carbon County, Wyoming, at the Aeolus Substation, and extending south and west to the planned Clover Substation near Mona, Juab County, Utah, an approximate distance of between 400 and 540 miles (depending on the route selected). The proposed Project also would include rebuilding two existing 345kV transmission lines between the Clover and Mona Substations (in the existing right-of-way approximately 2-miles in length), rerouting the Mona to Huntington 345kV transmission line through the Clover Substation, constructing communication regeneration stations, two series compensation stations at points between Aeolus and Clover substations to improve transport capacity and efficiency of the transmission line and, depending on the route selected, relocating approximately 2 miles of the existing Bears Ears to Bonanza 345kV transmission line to parallel the proposed line, off the Raven Ridge Area of Critical Environmental Concern (ACEC), thereby eliminating multiple crossings of transmission lines within a short distance. Equipment to accommodate the 500kV transmission line would be installed at the Aeolus and Clover substations. The requested ROW width would be 250 feet for the 500kV portion of the proposed Project and 150 feet for the 345kV portion of the proposed Project. If the Project is approved, construction is projected to start in 2018.

The proposed Project is designed to provide up to 1,500 megawatts of capacity to meet current and forecasted needs of Rocky Mountain Power's customers. The transmission line would transmit power from both renewable and thermal energy sources. Alternative routes considered in the Final EIS cross Federal, State, tribal, and private lands. Under Federal law, the BLM is responsible for responding to applications for ROW on BLM-administered lands. Similarly, under Federal law, the Forest Service is responsible for responding to applications for special-use authorizations on lands administered by the Forest Service. The BLM is the designated lead Federal agency for preparing the EIS as defined at 40 Code of Federal Regulations (CFR) Part 1501.5. The Forest Service is a cooperating agency in the proposed Project based on its potential Federal action to issue a special use permit across Forest Service lands. Additional cooperating agencies include Federal, State, tribal and local agencies.

In accordance with NEPA, the BLM prepared a Draft EIS in response to the ROW application for the proposed Project using an interdisciplinary approach in order to consider a variety of resource issues and concerns identified during internal, interagency and public scoping. An NOA for the Draft EIS for the Project was published by the EPA for the Forest Service in the Federal Register on February 21, 2014 (79 FR 9898), initiating a 90-day public comment period. The BLM also published an NOA for the Draft EIS on the same date (79 FR 9916). To allow the public an opportunity to review information associated with the proposed Project and comment on the Draft EIS, the BLM conducted 12 open-house meetings in March and April 2014 in Grand Junction, Rangely, and Craig, Colorado; Baggs and Rawlins, Wyoming; and Vernal, Fort Duchesne, Roosevelt, Green River, Price, Mount Pleasant, and Nephi, Utah. During the comment period, the BLM received 603 submittals from Federal, State, and local agencies; public and private organizations; and individuals, of which 301 were one version of a form letter and 126 were a form postcard. Principal issues identified in the comments received by BLM included:

• Mitigation;

• Opposition to, or support for, specific route alignments; and

• Impacts on sensitive biological resources, including sage-grouse and special status plant species.

Comments received on the Draft EIS were incorporated, where appropriate, to clarify the analysis presented and are included in the Final EIS. Based on comments received on the Draft EIS, revisions were made to the alignment of the Agency Preferred Alternative, including reduced separation distance from existing transmission to reflect updated Western Electricity Coordinating Council guidance. In addition, the BLM developed a series of route variations to compare local routing options for segments of the Agency Preferred Alternative route.

The Final EIS considers 12 alternative routes totaling 1,425 miles in detail and a No Action Alternative. Also, a series of route variations to compare local routing options for segments of the Agency Preferred Alternative route were analyzed. Under the No Action Alternative, the BLM ROW and the Forest Service special-use authorization for the proposed Project to cross Federal lands would not be granted and the transmission line and ancillary facilities would not be constructed.

Approximately 51 miles (12 percent) of the Agency Preferred Alternative route is located within designated utility corridors. The Agency Preferred Alternative route is co-located with existing transmission lines for a distance of 116 miles (28 percent) of the total length of 416 miles. The Agency Preferred Alternative route crosses 231 miles of Federal; 1.6 miles of tribal; 48 miles of State; and 135 miles of private land.

In Wyoming, the Agency Preferred Alternative route exits the Aeolus Substation in the utility corridor designated by Wyoming Executive Order 2011-5 for the protection of sage-grouse, continuing to the southwest where it crosses Interstate 80 approximately 10 miles east of Sinclair, Wyoming. The Agency Preferred Alternative route continues west on the southern side of Interstate 80 (approximately 3 to 5 miles south) for approximately 57 miles. The Agency Preferred Alternative route then parallels Wamsutter Road (on the east side of the road) south for approximately 15 miles. At that point, the Agency Preferred Alternative route continues southwest crossing Flat Top Mountain and continues toward the Wyoming and Colorado border, approximately 22 miles west of Baggs, Wyoming.

The Agency Preferred Alternative route continues south/southwest into Colorado and through the Sevenmile Ridge area, where it crosses the Little Snake River, the western edge of the Godiva Rim, and Colorado State Highway 318 in an area approximately 10 miles northwest of Maybell, Colorado. The Agency Preferred Alternative route continues south crossing the Yampa River 5 miles northeast of Cross Mountain Gorge to a point near U.S. Highway 40 approximately 12 miles southwest of Maybell. At that point, the Agency Preferred Alternative parallels U.S. Highway 40 for approximately 3 miles before continuing west to avoid crossing the Tuttle Ranch Conservation Easement and to minimize crossing of the Cross Mountain Ranch Conservation Easement. The route crosses the Deerlodge Road entrance to the Dinosaur National Monument on a State of Colorado parcel before continuing roughly south to parallel the Bonanza to Bears Ears 345kV and the Hayden to Artesia 138kV transmission lines south of U.S. Highway 40. The route terminates at a point approximately 22 miles east of Dinosaur, Colorado, and crosses 1.8 miles of the Cross Mountain Ranch Conservation Easement. From this point, the Agency Preferred Alternative route continues to parallel the Bears Ears to Bonanza 345kV and the Hayden to Artesia 138kV transmission lines to the west toward the Colorado/Utah border. The Agency Preferred Alternative route continues to follow the Bears Ears to Bonanza 345kV transmission line southwest toward the Bonanza Power Plant. The Agency Preferred Alternative route then continues west/southwest following an underground pipeline through an area where the Uinta Basin hookless cactus and clay reed-mustard occurs (Federally listed plant species) and crossing the Green River approximately 8 miles north of Sand Wash boat launch, continuing west toward the western end of the Tavaputs Plateau. In the plateau, the Agency Preferred Alternative route traverses through Argyle Ridge for approximately 12 miles dropping southwest toward U.S. Highway 191, following the highway through Indian Canyon for approximately 2 miles; it then crosses the highway heading west/northwest into the Emma Park area (approximately 11 miles north of Helper, Utah) toward Soldier Summit for a distance of approximately 21 miles avoiding sage-grouse leks/habitat to the south and the Reservation Ridge Scenic Backway (designated by the Forest Service) to the north. The Agency Preferred Alternative route continues west toward U.S. Highway 6 and parallels the Spanish Fork to Carbon 138kV transmission line northwest for approximately 25 miles. The Agency Preferred Alternative route continues paralleling the Bonanza to Mona 345kV transmission line toward Thistle, Utah, turning south and crosses U.S. Highway 89 near Birdseye, Utah, continuing south/southwest to a point approximately 5 miles north of Fountain Green, Utah. The Agency Preferred Alternative route continues to parallel the Bonanza to Mona 345kV transmission line west through Salt Creek Canyon, south of Mount Nebo, toward Nephi, Utah, and the Clover Substation.

The Agency Preferred Alternative route was identified by the BLM in coordination with the Forest Service and other cooperating agencies using criteria based key resource concerns and issues, regulation and policy, and Council of Environmental Quality regulations for determining significance. The criteria used include the following:

• Maximizes use of existing designated utility corridors by locating within the corridors or paralleling existing linear utility ROWs.

• Avoids or minimizes impacts on resources that are regulated by law, after consideration of proposed Project design features and agency best management practices. This includes impacts on greater sage-grouse.

• Avoids potential impacts and minimizes unavoidable impacts on resources that may not be regulated by law.

• Reduces the need for plan amendments through conformance to land-use plans.

• Avoids or minimizes proximity to private residences and residential areas, thereby addressing concerns with public health and safety, aesthetics, property values, visual effects, and other concerns.

• Minimizes use of private lands, assuming natural resource impacts are more or less similar.

Copies of the Final EIS are available for public review during normal business hours at the following locations:

• BLM, Wyoming State Office, Public Reading Room, 5353 Yellowstone Road, Cheyenne, Wyoming 82009;

• BLM, Rawlins Field Office, 1300 North Third Street, Rawlins, Wyoming 82301;

• BLM Colorado State Office, Public Reading Room, 2850 Youngfield Street, Lakewood, Colorado 80215-7093;

• BLM, Grand Junction Field Office, 2815 H Road, Grand Junction, Colorado 81506;

• BLM, Little Snake Field Office, 455 Emerson Street, Craig, Colorado 81625;

• BLM, White River Field Office, 220 East Market Street, Meeker, Colorado 81641;

• BLM Utah State Office, Public Reading Room, 440 West 200 South, Suite 500, Salt Lake City, Utah 84101-1345;

• BLM, Fillmore Field Office, 35 East 500 North, Fillmore, Utah 84631;

• BLM, Moab Field Office, 82 East Dogwood, Moab, Utah 84532;

• BLM, Price Field Office, 125 South 600 West, Price, Utah 84501;

• BLM, Salt Lake Field Office, 2370 South Decker Lake Boulevard, West Valley City, Utah 84119;

• BLM, Richfield Field Office, 150 East 900 North, Richfield, Utah 84701;

• BLM, Vernal Field Office,170 South 500 East, Vernal, Utah 84078; and

• Forest Service (Lead Forest Office), Ashley National Forest Supervisor's Office, 355 North Vernal Avenue, Vernal, Utah 84078.

Agency Decisions on the Proposed Project: Based on the environmental analysis in the Final EIS, the BLM Wyoming State Director will render a decision for the portion of the project which affect public land. The Forest Service will issue a separate decision specific to National Forest System land.

As the lead agency, the BLM has coordinated and utilized the NEPA comment process to satisfy the public involvement for Section 106 of the National Historic Preservation Act (16 U.S.C. 470f), as provided for in 36 CFR 800.2(d)(3). Ongoing consultation with American Indian tribes will continue in accordance with policy. Tribal concerns, including impacts on Indian trust assets, will be given due consideration. Federal, State, and local agencies, as well as other stakeholders interested or affected by the decisions on this proposed Project, are invited to respond to this notice.

BLM Land-use Plan Amendments and the Protest Process: Depending on the route alternative, potential LUPAs proposed by the BLM are needed for the portions of the proposed Project crossing public land that do not conform to the respective land use plan. These include the following:

• Converting utility corridors from underground use only to allow aboveground utilities;

• Modifying BLM visual resource management classifications; and

• Widening portions of a utility corridor designated in a land-use plan to include the Project ROW.

The BLM is proposing seven LUPAs where the Agency Preferred Alternative route is not in conformance with the existing land-use plans.

All proposed LUPAs would comply with applicable Federal laws and regulations and can apply only to Federal lands and mineral estate administered by the BLM.

• Rawlins Resource Management Plan (RMP): One amendment for visual resource management

• Little Snake RMP: One amendment for visual resource management

• Pony Express RMP (Salt Lake Field Office): One amendment to establish a new utility corridor

• Price RMP: One amendment to widen a portion of an existing utility corridor

• Vernal RMP: Three amendments for visual resource management

Instructions for filing a protest with the BLM Director regarding the proposed land-use plan amendments may be found in the “Dear Reader” letter of the Final EIS and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM will consider the email as an advance copy and it will receive full consideration. If you wish to provide the BLM with such advance notification, please direct emails to protest@blm.gov.

Before including your phone number, email address, or other personal identifying information in your protest, you should be aware that your entire protest—including personal identifying information—may be made publicly available at any time. While you may ask the BLM in your protest to withhold your personal identifying information from public review, we cannot guarantee that we will be able to do so.

Authority: 40 CFR 1506.6, 40 CFR 1506.10, 43 CFR 1610.2.

Larry Claypool,
Acting Wyoming State Director.

[FR Doc. 2016-11371 Filed 5-12-16; 8:45 am]

BILLING CODE 4310-22-P